DEPARTMENT OF LABOR

Employment and Training Administration

[TA-W-40,549]

D8 Inc., Potlatch, ID; Notice of Termination of Investigation

Pursuant to section 221 of the Trade Act of 1974, an investigation was initiated on January 14, 2002, in response to a petition filed by a company official on behalf of workers at D8 Inc., Potlatch, Idaho.

The company official submitting the petition has requested that the petition be withdrawn. Consequently, further investigation in this case would serve no purpose, and the investigation has been terminated.

Signed in Washington, DC this 19th day of February, 2002.
Linda G. Poole,
Certifying Officer, Division of Trade Adjustment Assistance.

[FR Doc. 02-4731 Filed 2-27-02; 8:45 am]

BILLING CODE 4510-30-M